FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202) 523-5793 or tradeanalysis@fmc.gov.

Agreement No.: 012108-008.

Title: The World Liner Data Agreement.

Parties: ANL Singapore Pte Ltd.; APL Co. Pte. Ltd.; CMA CGM S.A.; COSCO Shipping Lines Co., Ltd.; Evergreen Line Joint Service Agreement; Hamburg-Sud; Hapag-Lloyd AG; Hyundai Merchant Marine Co., Ltd.; Independent Container Line Ltd.; Maersk Line A/S; Mediterranean Shipping Company S.A.; Nile Dutch Africa Line B.V.; Orient Overseas Container Line Ltd.; and Zim Integrated Shipping Services Limited.

Filing Party: Wayne Rohde, Esq.; Cozen O'Connor.

Synopsis: The amendment would add Westwood Shipping Lines as a party to the agreement. It would also update the name of Maersk A/S, the name and address of HMM Company Limited, and the address of CMA CGM.

Proposed Effective Date: 11/1/2021.

Location: https://www2.fmc.gov/FMC.Agreements.Web/Public/AgreementHistory/362.

Dated: September 24, 2021.
Rachel E. Dickon,
Secretary.

[FR Doc. 2021-21174 Filed 9-28-21; 8:45 am]

BILLING CODE 6730-02-P